DEPARTMENT OF ENERGY

Federal Energy Regulatory Commission

[Docket No. EL05-105-000]

Entergy Services, Inc.; Notice of Institution of Proceeding and Refund Effective Date

May 12, 2005.

On May 5, 2005, the Commission issued an order that instituted a proceeding in Docket No. EL05-105-000, pursuant to section 206 of the Federal Power Act (FPA), 16 U.S.C. 824e, to investigate whether Entergy Services, Inc. satisfies the Commission's transmission market power and affiliate abuse or reciprocal dealing standards for the grant of market-based rate authority. Entergy Services, Inc., 111 FERC ¶ 61,145 (2005).

The refund effective date in Docket No. EL05-105-000, established pursuant to section 206(b) of the FPA, will be 60 days from the date of publication of this notice in the Federal Register.

Magalie R. Salas,
Secretary.

[FR Doc. E5-2535 Filed 5-19-05; 8:45 am]

BILLING CODE 6717-01-P